DEPARTMENT OF JUSTICE

United States Parole Commission

Public Announcement Pursuant to the Government in the Sunshine Act (Pub. L. 94-409) [5 U.S.C. Section 552b]

Agency Holding Meeting: Department of Justice, United States Parole Commission.

Date and Time: 10 a.m., Thursday, May 21, 2009.

Place: U.S. Parole Commission, 5550 Friendship Boulevard, 4th Floor, Chevy Chase, Maryland 20815.

Status: Closed.

Matters Considered: The following matter will be considered during the closed meeting: Approval or disapproval of a hearing examiner appointment.

Agency Contact: Thomas W. Hutchison, Chief of Staff, United States Parole Commission, (301) 492-5990.

Dated: May 14, 2009.
Rockne Chickinell,
General Counsel, U.S. Parole Commission.

[FR Doc. E9-11699 Filed 5-20-09; 8:45 am]

BILLING CODE 4410-31-M